DEPARTMENT OF LABOR

Employment and Training Administration

[TA-W-83,117]

CitiMortgage, Inc., a Subsidiary of Citibank, N.A., Mortgage Default Operations, Home Owner Support Team, Document Support Group and Consumer Operations and Techhnology, Mortgage Operations Fort Mill, South Carolina; Amended Certification Regarding Eligibility To Apply for Worker Adjustment Assistance

In accordance with Section 223 of the Trade Act of 1974, as amended (“Act”), 19 U.S.C. 2273, the Department of Labor issued a Certification of Eligibility to Apply for Worker Adjustment Assistance on November 7, 2013 applicable to workers of CitiMortgage, Inc., a subsidiary of Citibank, N.A., Mortgage Default Operations, Home Owner Support Team, Document Support Group, Fort Mill, South Carolina. The Department's notice of determination was published in the Federal Register on November 26, 2013 (78 FR 70582).

Based on a petition filed by three workers (TA-W-85,401), the Department reviewed the certification for workers of the subject firm. The workers are engaged in activities related to the supply of mortgage services.

The investigation confirmed that worker separations at CitiMortgage, Inc., a subsidiary of CitiBank, N.A., Consumer Operations and Technology, Mortgage Operations, Fort Mill, South Carolina are attributable to the same acquisition of services from a foreign country that contributed importantly to separations in the Home Owners Support Team, Document Support Group.

The amended notice applicable to TA-W-85,401 is hereby issued as follows:

“All workers of CitiMortgage, Inc., a subsidiary of Citibank, N.A., Mortgage Default Operations, Home Owner Support Team, Document Support Group, and Consumer Operations and Technology, Mortgage Operations, Fort Mill, South Carolina who became totally or partially separated from employment on or after September 24, 2012 through November 7, 2015, and all workers in the group threatened with total or partial separation from employment on the date of certification through two years from the date of certification, are eligible to apply for adjustment assistance under Chapter 2 of Title II of the Trade Act of 1974, as amended.”

Signed in Washington, DC this 31st day of July, 2014.
Del Min Amy Chen
Certifying Officer, Office of Trade Adjustment Assistance.

[FR Doc. 2014-19947 Filed 8-21-14; 8:45 am]

BILLING CODE 4510-FN-P